DEPARTMENT OF AGRICULTURE

Forest Service

Forest Counties Payments Committee Meeting

AGENCY: Forest Service, USDA.

ACTION: Notice of meeting.

SUMMARY: The Forest Counties Payments Committee has scheduled a meeting to discuss how it will provide Congress with the information specified in Section 320 of the Fiscal Year 2001 Interior and Related Agencies Appropriations Act. The meeting is open to the public.

DATES: The meeting will be held on July 12, 2007. The meeting will consist of a business meeting from 8 a.m. until 5 p.m.

ADDRESSES: The meeting will be held in the Council Room on the 2nd floor at the Holiday Inn on the Hill, 415 New Jersey Avenue, NW., Washington, DC 20001. Written comments concerning this meeting should be addressed to Randle G. Phillips, Executive Director, Forest Counties Payments Committee, P.O. Box 34718, Washington, DC 20043-4713. Comments may also be sent via e-mail to rphillips01@fs.fed.us, or via facsimile to 202-273-4750.

All comments, including names and addresses when provided, are placed in the record and are available for public inspection and copying. The public may inspect comments received at USDA Forest Service, Franklin Court Building, Ste. 5500W, 1099 14th Street, NW., Washington, DC 20005. Visitors are encouraged to call ahead to 202-208-6574 to facilitate entry into the building.

FOR FURTHER INFORMATION CONTACT: Randle G. Phillips, Executive Director, Forest Counties Payments Committee, at 202-208-6574 or via e-mail at rphillips01@fs.fed.us.

Individuals who use telecommunication devices for the deaf (TDD) may call the Federal Information Relay Service (FIRS) at 1-800-877-8339 between 8 a.m. and 8 p.m., Eastern Standard Time, Monday through Friday.

SUPPLEMENTARY INFORMATION: Section 320 of the Interior and Related Agencies Appropriations Act of 2001 created the Forest Counties Payments Committee to make recommendations to Congress on a long-term solution for making Federal payments to eligible States and counties in which Federal lands are situated. The Committee will consider the impact on eligible States and counties of revenues from the historic multiple use of Federal lands; evaluate the economic, environmental, and social benefits which accrue to counties containing Federal lands; evaluate the expenditures by counties on activities occurring on Federal lands, which are Federal responsibilities; and monitor payments and implementation of The Secure Rural Schools and Community Self-Determination Act of 2000 (Pub. L. 106-393).

Dated: June 25, 2007.
Tim DeCoster,
Chief of Staff.

[FR Doc. E7-12622 Filed 6-28-07; 8:45 am]

BILLING CODE 3410-11-P